DEPARTMENT OF COMMERCE

National Oceanic and Atmospheric Administration

RIN 0648-XA716

North Pacific Fishery Management Council; Public Meeting

AGENCY: National Marine Fisheries Service (NMFS), National Oceanic and Atmospheric Administration (NOAA), Commerce.

ACTION: Notice of a public meeting of the North Pacific Fishery Management Council's (Council) Pacific Northwest Crab Industry Advisory Committee.

SUMMARY: The Pacific Northwest Crab Industry Advisory Committee will meet October 13, 2011 at the Leif Erickson Hall in Ballard, WA. In Alaska, listening sites for the meeting will be located at the Unalaska City Hall and in Kodiak listening site to be announced.

DATES: The meeting will be held on October 13, 2011.

ADDRESSES: The meeting will be held at the Leif Erickson Hall, 2245 NW 57th Street, Seattle, WA 98107 (in Ballard).

Council address: North Pacific Fishery Management Council, 605 W. 4th Ave., Suite 306, Anchorage, AK 99501-2252.

FOR FURTHER INFORMATION CONTACT: Diana Stram, Council staff; telephone: (907) 271-2809.

SUPPLEMENTARY INFORMATION: Agenda—Alaska Department of Fish & Game/NMFS scientists from Alaska will be presenting the information on these fisheries topics: Review total allowable catch (TAC) limits for the 2011/12 crab season; NMFS Eastern Bering Sea survey overview; review status of Bristol Bay red king crab, Eastern Bering Sea Tanner crab, Bering Sea snow crab, Saint Matthew and Pribilof Islands king crab.

Special Accommodations

The meeting is physically accessible to people with disabilities. Requests for sign language interpretation or other auxiliary aids should be directed to Gail Bendixen at (907) 271-2809 at least 7 working days prior to the meeting date.

Dated: September 16, 2011.
Tracey L. Thompson,
Acting Director, Office of Sustainable Fisheries, National Marine Fisheries Service.

[FR Doc. 2011-24210 Filed 9-20-11; 8:45 am]

BILLING CODE 3510-22-P